DEPARTMENT OF AGRICULTURE

Foreign Agricultural Service

Notice of a Request for Extension of a Currently Approved Information Collection

AGENCY: Foreign Agricultural Service, USDA.

ACTION: Notice and request for comments.

SUMMARY: In accordance with the Paperwork Reduction Act, this notice announces the Department's intention to request an extension for a currently approved information collection in support of the Dairy Tariff-Rate Import Quota Licensing program.

DATES: Comments should be submitted no later than July 24, 2000 to be assured of consideration.

ADDITIONAL INFORMATION AND COMMENTS: Submit comments and/or requests for information to Richard P. Warsack, Dairy Import Quota Manager, STOP 1021, U.S. Department of Agriculture, 1400 Independence Avenue, S.W., Washington, D.C. 20250-1021, telephone (202) 720-9439 or e-mail warsack@fas.usda.gov. All comments received will be available for public inspection in room 5541-S at the above address. Persons with disabilities who require an alternative means for communication of information (Braille, large print, audiotape, etc.) should contact USDA's Target Center at (202) 720-2600 (voice and TDD).

SUPPLEMENTARY INFORMATION Title: Dairy Tariff-Rate Import Quota Licensing Program.

OMB Number: 0551-0001.

Expiration Date of Approval: October 31, 2000.

Type of Request: Extension of a currently approved information collection.

Abstract: The currently approved information collection supports Import Regulation 1, Revision 8 (7 CFR 6.20-6.37) which governs the administration of the import licensing system for certain dairy products subject to tariff-rate quotas (TRQs). The TRQs were established in the Harmonized Tariff Schedule of the United States (HTS) as a result of entry into force of certain provisions in the Uruguay Round Agreement. Imports of nearly all cheese made from cow's milk (except soft-ripened cheese such as Brie) and certain noncheese dairy products are subject to TRQs and the licensing provisions of Revision 8. Import licenses are issued each quota year to eligible licensees and are valid for 12 months (January 1 through December 31). Holders of such licenses may enter dairy articles at the low-tier tariff rate. Importers who do not hold licenses may enter dairy articles at the high-tier tariff rate.

For each quota year, all applicants must submit form FAS 923 (rev. 7-96). This form requests applicants to: (1) identify whether they are applying for a license as an importer, manufacturer or exporter of certain dairy products; and (2) certify they meet the eligibility requirements of § 6.23 of the Import Regulation. Importers and exporters must attach documentation required by § 6.23 and § 6.24 as proof of eligibility for import licenses. Applicants for nonhistorical licenses for cheese and/or noncheese dairy products must also submit form FAS 923-A and/or FAS 924-B (rev. 7-96). This form requires applicants to identify requests for licenses listed on the form in descending rank-order.

After licenses are issued, § 6.26 requires licensees to surrender by October 1 any license amount that a licensee does not intend to enter that year. To the extent practicable, the Licensing Authority reallocates these amounts to existing licensees for the remainder of that year. The information collection includes form FAS 924-A, License Surrender Form and FAS 924-B, Application for Additional License Amounts. These forms require the licensee to complete a table listing the license number and surrendered amount or to list the additional amounts requested by dairy article, supplying country and amount requested by descending rank-order.

Estimate of burden: The public reporting burden for this collection of currently approved forms FAS 923, FAS 923-A and 923-B (one form) is estimated to average 255 hours; and FAS 924-A and FAS 924-B (one form) is 15 hours. The estimated average burden includes the time for reviewing instructions, gathering data needed, completing forms, and record keeping are set forth in the table below.

Estimates | FAS 923, 923-A, 923-B (Rev.7-96) (one form) | FAS 924-A, 924-B (one form)
Est. number of respondents | 340.00 | 100.00
Est. responses per respondent | 1.00 | 1.00
Est. hours per response | 0.75 | 0.15
Est. total annual burden in hours | 255.00 | 15.00
Aggregate total | 270.00 estimated annual burden in hours.

Copies of this information collection can be obtained from Kimberly Chisley, the Agency Information Collection Coordinator, at (202) 720-2568.

The Department requests comments regarding the accuracy of the burden estimate, ways to minimize the burden, including the use of automated collection techniques or other forms of information technology, or any other aspect of the collection of information.

Comments should be submitted in accordance with the Dates, Additional Information and Comments sections above. All comments will be summarized and included in the request for OMB approval, and will also become a matter of public record.

Signed at Washington, D.C. on May 17, 2000.
Timothy J. Galvin,
Administrator, Foreign Agricultural Service.

[FR Doc. 00-12945 Filed 5-22-00; 8:45 am]

BILLING CODE 3410-10-P